NUCLEAR REGULATORY COMMISSION

10 CFR Part 150

[NRC-2025-0010]

State of Connecticut: Discontinuance of Certain Commission Regulatory Authority Within the State; Notice of Agreement Between the NRC and the State of Connecticut

AGENCY: Nuclear Regulatory Commission.

ACTION: Final State agreement.

SUMMARY: This notice is announcing that on September 25, 2025, David A. Wright, Chairman of the U.S. Nuclear Regulatory Commission (NRC or Commission), and Governor Edward Miner Lamont, Jr. of the State of Connecticut, signed an Agreement as authorized by Section 274b. of the Atomic Energy Act of 1954, as amended (the Act). Under the Agreement, the Commission discontinues its regulatory authority, and the State of Connecticut assumes regulatory authority over 11e.(1), 11e.(3), and 11e.(4) byproduct materials, source materials, and special nuclear materials in quantities not sufficient to form a critical mass.

DATES: The effective date of the Agreement is September 30, 2025.

ADDRESSES: Please refer to Docket ID NRC-2025-0010 when contacting the NRC about the availability of information regarding this document. You may obtain publicly available information related to this document using any of the following methods:

• Federal Rulemaking Website: Go to https://www.regulations.gov and search for Docket ID NRC-2025-0010. Address questions about docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Document collection at https://www.nrc.gov/reading-rm/adams.html. To begin the search, select “Begin ADAMS Public Search.” For problems with ADAMS, contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Duncan White, Office of Nuclear Material Safety and Safeguards; telephone: 301-415-2598; email: Duncan.White@nrc.gov or Huda Akhavannik, Office of Nuclear Material Safety and Safeguards; telephone: 301-415-5253; email: Huda.Akhavannik@nrc.gov. Both are staff of the U.S. Nuclear Regulatory Commission, Washington, DC 20555-0001.

SUPPLEMENTARY INFORMATION:

I. Additional Background Information on Connecticut Agreement

The NRC published the proposed Agreement in the Federal Register (FR) for comment once each week for four consecutive weeks on March 19, 2025 (90 FR 12795), March 26, 2025 (90 FR 13787), April 2, 2025 (90 FR 14485), and April 9, 2025 (90 FR 15259), as required by the Act. The comment period ended on April 19, 2025. The NRC received one anonymous comment submission letter from a member of the public. The commentator opposed the proposed Agreement for several reasons. No changes in the proposed Agreement or the staff's conclusions in the draft staff assessment of the State's program were made in response to the comment. The staff analysis of the comment can be found at ML25161A145. The NRC staff determined that the Connecticut Agreement State program is adequate to protect the public health and safety and compatible with the NRC's program. The Connecticut Agreement is consistent with Commission policy and thus meets the criteria for an Agreement with the Commission.

After considering the request for an Agreement by the Governor of Connecticut, the supporting documentation submitted with the request for an Agreement, and its interactions with the staff of the Connecticut Department of Energy and Environmental Protection, the NRC staff completed an assessment of the Connecticut program. The agency made a copy of the staff assessment available in the NRC's PDR and electronically on the NRC's website. Based on the staff's assessment, the Commission determined on August 8, 2025, that the Connecticut program for control of radiation hazards is adequate to protect the public health and safety and compatible with the Commission's program. As of the effective date of the Agreement, a person in Connecticut possessing these materials is exempt from certain Commission regulations. The exemptions have been previously published in the FR and are codified in the Commission's regulations. The Agreement is published here as required by Section 274e. of the Act.

This Agreement is a rule as defined in the Congressional Review Act (5 U.S.C. 801-808). The Office of Management and Budget has found that this action does not meet the criteria at 5 U.S.C. 804(2). The Office of Information and Regulatory Affairs has determined that this Agreement is not a significant regulatory action under Executive Order 12866.

II. Availability of Documents

The ADAMS Accession numbers for the request for an Agreement by the Governor of Connecticut, including all information and documentation submitted in support of the request, and the NRC staff assessment are identified in the following table.

Document description | ADAMS accession No.
Letter from Governor Ned Lamont, Connecticut, to Chair Hanson requesting that an Agreement be established between the NRC and State of Connecticut, dated October 31, 2024 | ML24306A079.
Draft Staff Assessment of the Proposed Connecticut Program, dated March 4, 2025 | ML25070A186.
Final Connecticut Application Section 4.1 Legal Elements | ML24311A018 (Package).
Final Connecticut Application Section 4.2 Regulatory Requirements | ML24311A026 (Package).
Final Connecticut Application Section 4.3 Licensing Program Elements | ML24311A029 (Package).
Final Connecticut Application Section 4.4 Inspection Program Elements | ML24311A030 (Package).
Final Connecticut Application Section 4.5 Enforcement Program Elements | ML24311A044 (Package).
Final Connecticut Application Section 4.6 Technical Staffing and Training Program Elements | ML24319A210 (Package).
Final Connecticut Application Section 4.7 Event and Allegation Response Program Elements | ML24319A211 (Package).
Connecticut Application Request for Additional Information | ML24347A038 (Package).
State Agreement (SA) 700 Processing an Agreement final, dated June 15, 2022 | ML22138A414.
SA-700 Handbook for Processing an Agreement Procedure final, dated June 17, 2022 | ML22140A396.
SECY-25-0068, includes final staff assessment | ML25139A031 (Package).

Dated: September 25, 2025.
For the Nuclear Regulatory Commission.
Carrie Safford,
Secretary of the Commission.

[FR Doc. 2025-18841 Filed 9-26-25; 8:45 am]

BILLING CODE 7590-01-P